COMMITTEE FOR PURCHASE FROM PEOPLE WHO ARE BLIND OR SEVERELY DISABLED

Procurement List; Change

AGENCY: Committee for Purchase From People Who Are Blind or Severely Disabled.

ACTION: Change to the Procurement List.

SUMMARY: This action changes service additions to the Procurement List that are furnished by nonprofit agencies employing persons who are blind or have other severe disabilities.

DATES: Comments must be received on or before: April 21, 2023.

ADDRESSES: Committee for Purchase From People Who Are Blind or Severely Disabled, 355 E Street SW, Washington, DC 20024.

FOR FURTHER INFORMATION CONTACT: Michael R. Jurkowski, Telephone: (703) 785-6404, or email CMTEFedReg@AbilityOne.gov.

SUPPLEMENTARY INFORMATION:

Additions

If the Committee approves the change to the Procurement List, the entities of the Federal Government identified in this notice will be required to procure the service(s) listed below from nonprofit agencies employing persons who are blind or have other severe disabilities.

Regulatory Flexibility Act Certification

I certify that the following action will not have a significant impact on any small entities. The major factors considered for this certification were:

1. The action did not result in any additional reporting, recordkeeping, or other compliance requirements for small entities other than the nonprofit agencies furnishing the services to the Government.

2. The action did result in authorizing nonprofit agencies to furnish the products to the Government.

3. There were no known regulatory alternatives which would have accomplished the objectives of the Javits-Wagner-O'Day Act (41 U.S.C. 8501-8506) in connection with the products added to the Procurement List.

End of Certification

The following is the intended change to the service currently on the Procurement List:

Service(s)

Service Type: Facilities Maintenance Services

Mandatory for: U.S. Army, Department of Public Works, Fort Knox, KY

The Committee for Purchase From People Who Are Blind or Severely Disabled (Committee), is announcing that Skookum Contract Services and Professional Contract Services, Inc. were recommended to the Committee to serve as mandatory sources for the Total Facilities Maintenance (TFM) Pilot Project at Ft. Knox, KY. The short-term goal of this Pilot is to allocate the TFM requirement, utilizing enhanced competitive procedures. The long-term goal is to incorporate lessons learned from the Pilot into the Committee's regulatory and policy framework to promote greater Program transparency, spur innovation, and enhance employment opportunities for blind and other significantly disabled individuals.

The TFM requirement consists of approximately 109,054 acres and 2,326 buildings and covers several functional areas, such as building and structure maintenance, snow and ice removal, landscaping services, utility system maintenance, and others. The current requirement also includes custodial services, which is excluded from the Pilot and will become a separate, stand-alone addition for the currently performing NPA. SourceAmerica is the incumbent TFM contractor, but the follow-on requirement will transition from SourceAmerica to one of the recommended NPAs, using a two-phase evaluation process.

Phase I began mid-January 2023 with SourceAmerica's issuance of an Opportunity Notice, which established the criteria to participate in the competition. After responses were received, SourceAmerica assessed and recommend two NPAs to the Committee for further considerations. If the Committee determines this requirement is suitable for transfer in accordance with 41 CFR 51-2.4, the Committee will authorize one or both NPAs for addition to the Procurement List as mandatory sources, and conclude Phase I. After which, the Committee will publish a final notice formally identifying the NPA(s) authorized to compete in Phase II.

The Phase II evaluation will assess the NPAs on technical capability, past performance, and price. The SourceAmerica Phase II Evaluation Team will assess the NPAs against the stated evaluation factors. The U.S. Army's Installation Management Command and the Army's Mission and Installation Contracting Command will provide technical support to SourceAmerica throughout the Phase II evaluation process. SourceAmerica will select the NPA that can provide the best overall solution to the Army at the conclusion of Phase II.

Michael R. Jurkowski,
Acting Director, Business Operations.

[FR Doc. 2023-05937 Filed 3-22-23; 8:45 am]

BILLING CODE 6353-01-P